DEPARTMENT OF JUSTICE

Notice of Lodging of Proposed Consent Decree Under the Comprehensive Environmental Response, Compensation, and Liability Act

On September 28, 2018, the Department of Justice and the State of California's Department of Toxic Substances Control (“DTSC”) filed a complaint and lodged a proposed Consent Decree with the United States District Court for the Eastern District of California (“Court”) pertaining to environmental soil, solid waste, and soil gas contamination at Operable Unit 2 (“OU2”) of the Laboratory for Energy-Related Health Research/Old Campus Landfill Superfund Site (“Site”) in Solano County, California. The complaint and proposed Consent Decree were filed contemporaneously in the matter of United States of America and the California Department of Toxic Substances Control vs. Regents of the University of California, Civil Action No. 2:18-cv-02651 (E.D. Cal.).

The proposed Consent Decree resolves certain claims under Sections 106 and 107 of the Comprehensive Environmental Response, Compensation, and Liability Act, 42 U.S.C. 9606, 9607, as well as related state law claims, in connection with soil, solid waste, and soil gas contamination at OU2. The Consent Decree requires the settling defendant, the Regents of the University of California, to perform cleanup of soil, solid waste, and soil gas contamination at OU2, and to reimburse the United States' and DTSC's related oversight costs on an ongoing basis.

The publication of this notice opens a period for public comment on the Consent Decree. Comments should be addressed to the Assistant Attorney General, Environment and Natural Resources Division, and should refer to United States of America and the California Department of Toxic Substances Control vs. Regents of the University of California, D.J. Ref. No. 90-11-3-1606/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.usdoj.gov/enrd/consent-decrees. We will provide a paper copy of the Consent Decree upon written request and payment of reproduction costs. Please mail your request and payment to: Consent Decree Library, U.S. DOJ—ENRD, P.O. Box 7611, Washington, DC 20044-7611.

Please enclose a check or money order for $57.00 (25 cents per page reproduction cost) for the Consent Decree, including appendices and signature pages, payable to the United States Treasury. For a paper copy of the Consent Decree without the appendices and signature pages, the cost is $15.50.

Henry Friedman,
Assistant Section Chief, Environmental Enforcement Section, Environment and Natural Resources Division.

[FR Doc. 2018-21589 Filed 10-3-18; 8:45 am]

BILLING CODE 4410-15-P